DEPARTMENT OF DEFENSE

Department of the Navy

Notice of Availability of Government-Owned Inventions; Available for Licensing

AGENCY: Department of the Navy, DoD.

ACTION: Notice.

SUMMARY: The Department of the Navy (DoN) announces the availability of the inventions listed in this notice, assigned to the United States Government, as represented by the Secretary of the Navy, for domestic and foreign licensing by the Department of the Navy.

ADDRESSES: Requests for copies of the patents cited should be directed to Naval Surface Warfare Center, Crane Div, Code OOL, Bldg. 2, 300 Highway 361, Crane, IN 47522-5001.

FOR FURTHER INFORMATION CONTACT: Mr. Christopher Monsey, Naval Surface Warfare Center, Crane Div, Code OOL, Bldg 2, 300 Highway 361, Crane, IN 47522-5001, Email Christopher.Monsey@navy.mil, 812-854-2777.

SUPPLEMENTARY INFORMATION: The following patents are available for licensing: Patent No. 10,047,731 (Navy Case No. 200222): PLASMA PROPELLANT ABLATION/SUBLIMATION BASED SYSTEMS//Patent No. 10,054,383 (Navy Case No. 200417): RETRACTABLE SUPPRESSOR//Patent No. 10,054,414 (Navy Case No. 200465): EXPLOSIVE ASSEMBLY SYSTEMS INCLUDING A LINEAR SHAPED CHARGE END PRIME CAP APPARATUS AND RELATED METHODS//Patent No. 10,055,525 (Navy Case No. 102512): MULTI AGENT RADIO FREQUENCY PROPAGATION SIMULATOR//Patent No. 10,059,445 (Navy Case No. 200239): REMOTELY OPERATED VEHICLE (ROV) AND DATA COLLECTION PROTECTION SYSTEM//Patent No. 10,060,962 (Navy Case No. 103111): SYSTEM AND METHOD FOR TUNING TRANSFORMERS//Patent No. 10,061,880 (Navy Case No. 103076): MULTI AGENT RADIO FREQUENCY PROPAGATION SIMULATOR//Patent No. 10,062,554 (Navy Case No. 200390): METAMATERIAL PHOTOCATHODE FOR DETECTION AND IMAGING OF INFRARED RADIATION//Patent No. 10,063,025 (Navy Case No. 200412): CABLE CONNECTOR HAND TOOLS//Patent No. 10,067,655 (Navy Case No. 102556): VISUAL AND QUANTITATIVE FACTORS ANNALYSIS SYSTEMS FOR RELATING A HIERARCHY OF FACTORS INCLUDING ONE OR MORE RESOURCES, TASKS, AND COGNITIVE MODELS DISPLAYED IN A HIERARCHICAL GRAPHICAL INTERFACE ENABLING VISUAL AND QUANTITATIVE EVALUATION OF SUFFICIENCY OF SUCH FACTORS IN RELATION TO ONE OR MORE PROBLEM/SOLUTION SETS//Patent No. 10,070,532 (Navy Case No. 200229): PRINTED CIRCUIT BOARD FABRICATION PROCESSES AND ARCHITECTURE INCLUDING POINT-OF-USE DESIGN AND FABRICATION CAPACITY EMPLOYING ADDITIVE MANUFACTURING//Patent No. 10,080,531 (Navy Case No. 200268): TRAUMATIC INJURY SELF-TREATMENT AND MEDICAL INFORMATION APPARATUS AND RELATED METHODS//and Patent No. 10,082,657 (Navy Case No. 200428): DUAL MAGNIFICATION APPARATUS AND SYSTEM FOR EXAMINING A SINGLE OBJECTIVE IN A SCANNING OPTICAL MICROSCOPE USING TWO WAVELENGTHS OF LIGHT.

Authority: 35 U.S.C. 207, 37 CFR part 404.

Dated: September 26, 2018.
Meredith Steingold Werner,
Lieutenant Commander, Judge Advocate General's Corps, U.S. Navy, Federal Register Liaison Officer.

[FR Doc. 2018-21297 Filed 9-28-18; 8:45 am]

BILLING CODE 3810-FF-P